DEPARTMENT OF THE INTERIOR

Bureau of Reclamation

California Bay-Delta Public Advisory Committee Public Meeting

AGENCY: Bureau of Reclamation, Interior.

ACTION: Notice of meeting.

SUMMARY: In accordance with the Federal Advisory Committee Act, the California Bay-Delta Public Advisory Committee will meet jointly with the CALFED Bay-Delta Program Policy Group on December 4 and 5, 2002. The agenda for the Committee meeting will include a summary of CALFED Bay-Delta Program progress and balance, the lead scientist's report, discussion of annual work plans and subcommittee recommendations, Committee priorities for 2003, and implementation of the CALFED Bay-Delta Program with State and Federal officials.

DATES: The meeting will be held Wednesday, December 4, 2002 from 9 a.m. to 6 p.m., and if needed, the meeting will resume on Thursday, December 5, 2002 from 9 a.m. to 12 p.m. If reasonable accommodation is needed due to a disability, please contact Pauline Nevins at (916) 657-2666 or TDD (800) 735-2929 at least 1 week prior to the meeting.

ADDRESSES: The meeting will be held at the Sheraton Grand Hotel located at 1230 J Street, Grand Ballroom, Sacramento, California, on December 4, 2002. If a second day is necessary to resume the meeting, the location will change to the Sacramento Convention Center located at 1400 J Street, Room 203, Sacramento, California, on December 5, 2002.

FOR FURTHER INFORMATION CONTACT: Eugenia Laychak, CALFED Bay-Delta Program, at (916) 654-4214, or Diane Buzzard, U.S. Bureau of Reclamation, at (916) 978-5022.

SUPPLEMENTARY INFORMATION: The Committee was established to provide assistance and recommendations to Secretary of the Interior Gale Norton and California Governor Gray Davis on implementation of the CALFED Bay-Delta Program. The Committee will advise on annual priorities, integration of the eleven Program elements, and overall balancing of the four Program objectives of ecosystem restoration, water quality, levee system integrity, and water supply reliability. The Program is a consortium of 23 State and Federal agencies with the mission to develop and implement a long-term comprehensive plan that will restore ecological health and improve water management for beneficial uses of the San Francisco/Sacramento and San Joaquin Bay Delta.

Committee and meeting materials will be available on the CALFED Bay-Delta Web site: http://calfed.ca.gov and at the meeting. This meeting is open to the public. Oral comments will be accepted from members of the public at the meeting and will be limited to 3-5 minutes.

(Authority: The Committee was established pursuant to the Department of the Interior's authority to implement the Fish and Wildlife Coordination Act, 16 U.S.C. 661 et. seq., the Endangered Species Act, 16 U.S.C. 1531 et. seq., and the Reclamation Act of 1902, 43 U.S.C. 371 et. seq., and the acts amendatory thereof or supplementary thereto, all collectively referred to as the Federal Reclamation laws, and in particular, the Central Valley Project Improvement Act, Title 34 of Public Law 102-575.)
Dated: October 28, 2002.
Nan M. Yoder,
Acting Special Projects Officer, Mid-Pacific Region.

[FR Doc. 02-28614 Filed 11-8-02; 8:45 am]

BILLING CODE 4310-MN-M